ENVIRONMENTAL PROTECTION AGENCY

[FRL-7923-6]

Request for Nominations to the Good Neighbor Environmental Board

AGENCY: Environmental Protection Agency (EPA).

ACTION: Notice of request for nominations.

SUMMARY: The U.S. Environmental Protection Agency invites nominations of qualified candidates to be considered for appointments to fill several vacancies on the Good Neighbor Environmental Board. The Board advises the President and Congress on environmental and infrastructure issues along the United States border with Mexico. It is managed by EPA.

For this round of recruitment, given the nature of current vacancies, and given the goal of maintaining diverse representation across geographic locations and sectors, those meeting the following criteria are especially encouraged to apply: (1) Individuals living in the U.S. border states of Texas and New Mexico, particularly border communities, who (2) have experience and expertise in either local or county government; the academic sector; or the private sector. Other individuals with other types of expertise living in the other two U.S. border states also are welcome to apply for membership. Individuals may apply themselves, or be nominated. Letters of reference are encouraged.

In addition, from the federal agency contingent of the Board, senior officials from the following departments have, or will be, ending their terms shortly, and successors will be appointed: Department of Health and Human Services; Department of the Interior; and the Environmental Protection Agency.

The deadline for receiving applications for membership is August 15. All appointments will be made by the Administrator of EPA. The announcement of new appointments is scheduled for early October 2005, in advance of the Board's next meeting, which will take place on October 17-19, 2005, on Tohono O'odham Nation land near Tucson, Arizona.

ADDRESSES: Submit application materials to Elaine Koerner, Designated Federal Officer, Good Neighbor Environmental Board, Mail Code 1601 E, U.S. Environmental Protection Agency, 655 15th St., NW., Suite 800, Washington, DC 20460. T: 202-233-0069; F: 202-233-0070. koerner.elaine@epa.gov.

FOR FURTHER INFORMATION CONTACT: Elaine Koerner, Designated Federal Officer, Good Neighbor Environmental Board, EPA Region 9 Office, WTR-4, 75 Hawthorne St., San Francisco, CA 94105, T: 415-972-3437, F: 415-947-3537, e-mail koerner.elaine@epa.gov.

SUPPLEMENTARY INFORMATION: The Good Neighbor Environmental Board meets three times each calendar year; locations include Washington, DC and various locations along the U.S.-Mexico border. It was created by the Enterprise for the Americas Initiative Act of 1992. An Executive Order delegates implementing authority to the Administrator of EPA. The Board is responsible for providing advice to the U.S. President and Congress on environmental and infrastructure issues and needs within the States contiguous to Mexico in order to improve the quality of life of persons residing on the U.S. side of the border. The statute calls for the Board to have representatives from U.S. Government agencies; the governments of the States of Arizona, California, New Mexico and Texas; and private organizations with expertise on environmental and infrastructure problems along the southwest border. Board members typically contribute 10-15 hours per month to the Board's work. The Board membership position is voluntary; travel expenses are covered.

The following criteria will be used to evaluate nominees:

• Residence in one of the four U.S. border states.

• Professional knowledge of, and experience with, environmental infrastructure activities and policy along the U.S.-Mexico border.

• Senior level-experience that fills a gap in Board representation, or brings a new and relevant dimension to its deliberations.

• Representation of a sector or group that is involved in border region environmental infrastructure.

• Demonstrated ability to work in a consensus-building process with a wide range of representatives from diverse constituencies.

• Willingness to serve a two-year term as an actively-contributing member, with possible re-appointment to a second term.

Nominees' qualifications will be assessed under the mandates of the Federal Advisory Committee Act, which requires Committees to maintain diversity across a broad range of constituencies, sectors, and groups.

Nominations for membership must include a resume describing the professional and educational qualifications of the nominee as well as community-based experience. Contact details should include full name and title, business mailing address, telephone, fax, and e-mail address. A supporting letter of endorsement is encouraged but not required.

Dated: May 22, 2005.
Elaine M. Koerner,
Designated Federal Officer.

[FR Doc. 05-11542 Filed 6-9-05; 8:45 am]

BILLING CODE 6560-50-P